DEPARTMENT OF COMMERCE

International Trade Administration

[A-570-890]

Wooden Bedroom Furniture From the People's Republic of China: Notice of Court Decision Not in Harmony With Final Results of Administrative Review and Notice of Second Amended Final Results of Administrative Review Pursuant to Court Decision

AGENCY: Enforcement and Compliance, International Trade Administration, Department of Commerce.

SUMMARY: On April 21, 2015, the United States Court of International Trade (“CIT”) issued its final judgment in Home Meridian Int'l, Inc. v. United States, Consol. Court No. 11-00325,¹ and sustained the Department of Commerce's (“the Department”) third remand redetermination.² Consistent with the decision of the United States Court of Appeals for the Federal Circuit (“CAFC”) in Timken Co. v. United States, 893 F.2d 337 (Fed. Cir. 1990) (“Timken”), as clarified by Diamond Sawblades Mfrs. Coalition v. United States, 626 F.3d 1374 (Fed. Cir. 2010) (“Diamond Sawblades”), the Department is notifying the public that the final judgment in this case is not in harmony with the Department's Amended Final Results.³ The Department is amending its Amended Final Results with regard to the calculation of the weighted average dumping margin applied to the mandatory respondent, Dalian Huafeng Furniture Group Co., Ltd. (“Huafeng”), and the two separate rate respondents included in this decision: Nanhai Baiyi Woodwork Co. Ltd. (“Nanhai”) and Dongguan Liaobushangdun Huada Furniture Factory and Great Rich (HK) Enterprise Co., Ltd. (“Dongguan”).

¹ See Home Meridian Int'l, Inc. v. United States, Consol. Court No. 11-00325, Slip Op. 15-34 (April 21, 2015) (“Home Meridian III”).

² See Final Results of Third Redetermination Pursuant to Court Order,” Court No. 14-1251, (March 27, 2015) (“Remand Redetermination III”) available at http://enforcement.trade.gov/remands/cafc-1415-1251.pdf.

³ See Wooden Bedroom Furniture From the People's Republic of China: Notice of Court Decision Not in Harmony With Final Results of Administrative Review and Notice of Amended Final Results of Administrative Review Pursuant to Court Decision, 78 FR 72862 (December 4, 2013) (“Amended Final Results”).

DATES: Effective Date: May 1, 2015.

FOR FURTHER INFORMATION CONTACT: Patrick O'Connor, AD/CVD Operations, Office IV, Enforcement and Compliance—International Trade Administration, U.S. Department of Commerce, 14th Street and Constitution Avenue NW., Washington, DC, 20230; telephone (202) 482-0989.

SUPPLEMENTARY INFORMATION:

Background

In the Final Results, the Department valued certain wood inputs used by the respondent, Huafeng, with surrogate values and used Insular Rattan and Native Products Corporation's (“Insular Rattan”) 2009 financial statements, among others, to calculate surrogate financial ratios.⁴ The CIT twice remanded issues involving the Final Results to the Department, and, in its second redetermination, the Department valued certain wood inputs used by Huafeng with market economy purchase prices and revised the calculation of the surrogate financial ratios by excluding Insular Rattan's financial statements from the calculation.⁵ On November 14, 2013, the CIT sustained the final results of the Department's second redetermination and, in accordance with Timken, the Department published a notice of Amended Final Results.⁶ The American Furniture Manufacturers Committee for Legal Trade and Vaughan-Bassett Furniture Company, Inc. appealed the valuation of wood inputs, but not the issue of excluding Insular Rattan's financial statements, to the CAFC. On December 1, 2014, the CAFC reversed the CIT's decision and vacated the Department's redetermination results in which it used market economy purchase prices, rather than surrogate values, to value certain of Huafeng's wood inputs. The CAFC directed the CIT to reinstate the Department's wood valuation in the first redetermination (using surrogate values for Huafeng's wood inputs). On January 28, 2015, the CIT ordered the Department to file a redetermination with the Court in which it continued to exclude Insular Rattan's financial statements from its calculations and reinstated the wood valuation from the first redetermination. Pursuant to the CIT's order, the Department filed the final results of its third redetermination with the CIT on March 27, 2015 in which it valued Huafeng's wood inputs using surrogate values and continued to exclude Insular Rattan's financial statements from its calculations.⁷ On April 21, 2015, the CIT sustained the Department's Remand Redetermination III.⁸

⁴ See Wooden Bedroom Furniture from the People's Republic of China: Final Results and Final Rescission in Part, 76 FR 49729 (Aug. 11, 2011) (“Final Results”).

⁵ See Second Redetermination Pursuant to Court Order, Court No. 11-00325, dated August 26, 2013 (“Remand Redetermination II”).

⁶ See Amended Final Results.

⁷ See Remand Redetermination III.

⁸ See Home Meridian III.

Timken Notice

In its decision in Timken, 893 F.2d at 341, as clarified by Diamond Sawblades, the CAFC held that, pursuant to section 516A(e) of the Tariff Act of 1930, as amended (“the Act”), the Department must publish a notice of a court decision that is not “in harmony” with a Department determination and must suspend liquidation of entries pending a “conclusive” court decision. The CIT's April 21, 2015, judgment sustaining the Department's Remand Redetermination III in which it valued certain wood inputs using surrogate values, rather than market economy purchase prices, constitutes a final decision of that court that is not in harmony with the Department's Amended Final Results. This notice is published in fulfillment of the publication requirements of Timken. Accordingly, the Department will continue the suspension of liquidation of the subject merchandise pending the expiration of the period of appeal, or if appealed, pending a final and conclusive court decision.

Amended Final Results

Because there is now a final court decision with respect to this case, the Department is amending its Amended Final Results with respect to Huafeng's weighted-average dumping margin for the period January 1, 2009 through December 31, 2009. In addition, the Department has amended the Amended Final Results for Nanhai and Dongguan, the separate rate respondents included in this final court decision. The remaining weighted-average dumping margins from the Final Results, as subsequently amended,⁹ remain unchanged.

⁹ See Wooden Bedroom Furniture From the People's Republic of China: Amended Final Results of Antidumping Duty Administrative Review, 76 FR 57713 (September 16, 2011).

Manufacturer/exporter | Weighted-average dumping margin (percent)
Dalian Huafeng Furniture Group Co., Ltd | 45.83
Nanhai Baiyi Woodwork Co. Ltd | 45.83
Dongguan Liaobushangdun Huada Furniture Factory | 45.83
Great Rich (HK) Enterprise Co., Ltd

In the event the CIT's ruling is not appealed or, if appealed, upheld by the CAFC, the Department will instruct CBP to liquidate entries of subject merchandise based on the revised assessment rates calculated by the Department.

This notice is issued and published in accordance with sections 516A(e)(1), 751(a)(1), and 777(i)(1) of the Act.

Dated: May 11, 2015.
Paul Piquado,
Assistant Secretary for Enforcement and Compliance.

[FR Doc. 2015-12084 Filed 5-18-15; 8:45 am]

BILLING CODE 3510-DS-P